NUCLEAR REGULATORY COMMISSION

[NRC-2014-0146]

Biweekly Notice; Applications and Amendments to Facility Operating Licenses and Combined Licenses Involving No Significant Hazards Considerations

AGENCY: Nuclear Regulatory Commission.

ACTION: Biweekly notice.

SUMMARY: Pursuant to Section 189a.(2) of the Atomic Energy Act of 1954, as amended (the Act), the U.S. Nuclear Regulatory Commission (NRC) is publishing this regular biweekly notice. The Act requires the Commission to publish notice of any amendments issued, or proposed to be issued and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued from May 29, 2014 to June 11, 2014. The last biweekly notice was published on June 6, 2014.

DATES: Comments must be filed by July 24, 2014. A request for a hearing must be filed by August 25, 2014.

ADDRESSES: You may submit comments by any of the following methods (unless this document describes a different method for submitting comments on a specific subject):

• Federal Rulemaking Web site: Go to http://www.regulations.gov and search for Docket ID NRC-2014-0146. Address questions about NRC dockets to Carol Gallagher; telephone: 301-287-3422; email: Carol.Gallagher@nrc.gov. For technical questions, contact the individual listed in the FOR FURTHER INFORMATION CONTACT section of this document.

• Mail comments to: Cindy Bladey, Office of Administration, Mail Stop: 3WFN-06-A44M, U.S. Nuclear Regulatory Commission, Washington, DC 20555-0001.

For additional direction on obtaining information and submitting comments, see “Obtaining Information and Submitting Comments” in the SUPPLEMENTARY INFORMATION section of this document.

FOR FURTHER INFORMATION CONTACT: Kay K. Goldstein, NRR/DORL/LPLI-1, U.S. Nuclear Regulatory Commission, Washington, DC 20555-0001; telephone: 301-415-1506 email: Kay.Goldstein@nrc.gov.

SUPPLEMENTARY INFORMATION:

I. Obtaining Information and Submitting Comments

A. Obtaining Information

Please refer to Docket ID NRC-2014-0146 when contacting the NRC about the availability of information for this action. You may obtain publicly-available information related to this action by any of the following methods:

• Federal rulemaking Web site: Go to http://www.regulations.gov and search for Docket ID NRC-2014-0146.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in the SUPPLEMENTARY INFORMATION section.

• NRC's PDR: You may examine and purchase copies of public documents at the NRC's PDR, Room O1-F21, One White Flint North, 11555 Rockville Pike, Rockville, Maryland 20852.

B. Submitting Comments

Please include Docket ID NRC-2014-0146 in the subject line of your comment submission, in order to ensure that the NRC is able to make your comment submission available to the public in this docket.

The NRC cautions you not to include identifying or contact information in comment submissions that you do not want to be publicly disclosed in your comment submission. The NRC will post all comment submissions at http://www.regulations.gov as well as enter the comment submissions into ADAMS, and the NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed No Significant Hazards Consideration Determination

The Commission has made a proposed determination that the following amendment requests involve no significant hazards consideration. Under the Commission's regulations in § 50.92 of Title 10 of the Code of Federal Regulations (10 CFR), this means that operation of the facility in accordance with the proposed amendment would not (1) involve a significant increase in the probability or consequences of an accident previously evaluated, or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

A. Opportunity To Request a Hearing and Petition for Leave To Intervene

Within 60 days after the date of publication of this notice, any person(s) whose interest may be affected by this action may file a request for a hearing and a petition to intervene with respect to issuance of the amendment to the subject facility operating license or combined license. Requests for a hearing and a petition for leave to intervene shall be filed in accordance with the Commission's “Agency Rules of Practice and Procedure” in 10 CFR Part 2. Interested person(s) should consult a current copy of 10 CFR 2.309, which is available at the NRC's PDR, located at One White Flint North, Room O1-F21, 11555 Rockville Pike (first floor), Rockville, Maryland 20852. The NRC's regulations are accessible electronically from the NRC Library on the NRC's Web site at http://www.nrc.gov/reading-rm/doc-collections/cfr/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the requestor/petitioner intends to rely in proving the contention at the hearing. The requestor/petitioner must also provide references to those specific sources and documents of which the petitioner is aware and on which the requestor/petitioner intends to rely to establish those facts or expert opinion. The petition must include sufficient information to show that a genuine dispute exists with the applicant on a material issue of law or fact. Contentions shall be limited to matters within the scope of the amendment under consideration. The contention must be one which, if proven, would entitle the requestor/petitioner to relief. A requestor/petitioner who fails to satisfy these requirements with respect to at least one contention will not be permitted to participate as a party.

Those permitted to intervene become parties to the proceeding, subject to any limitations in the order granting leave to intervene, and have the opportunity to participate fully in the conduct of the hearing.

If a hearing is requested, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, then any hearing held would take place before the issuance of any amendment.

B. Electronic Submissions (E-Filing)

All documents filed in NRC adjudicatory proceedings, including a request for hearing, a petition for leave to intervene, any motion or other document filed in the proceeding prior to the submission of a request for hearing or petition to intervene, and documents filed by interested governmental entities participating under 10 CFR 2.315(c), must be filed in accordance with the NRC's E-Filing rule (72 FR 49139; August 28, 2007). The E-Filing process requires participants to submit and serve all adjudicatory documents over the internet, or in some cases to mail copies on electronic storage media. Participants may not submit paper copies of their filings unless they seek an exemption in accordance with the procedures described below.

To comply with the procedural requirements of E-Filing, at least ten 10 days prior to the filing deadline, the participant should contact the Office of the Secretary by email at hearing.docket@nrc.gov, or by telephone at 301-415-1677, to request (1) a digital identification (ID) certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/getting-started.html. System requirements for accessing the E-Submittal server are detailed in the NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through the Electronic Information Exchange System, users will be required to install a Web browser plug-in from the NRC's Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with NRC guidance available on the NRC's public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the NRC's adjudicatory E-Filing system may seek assistance by contacting the NRC Meta System Help Desk through the “Contact Us” link located on the NRC's public Web site at http://www.nrc.gov/site-help/e-submittals.html, by email to MSHD.Resource@nrc.gov, or by a toll-free call at 1-866-672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland, 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at http://ehd1.nrc.gov/ehd/, unless excluded pursuant to an order of the Commission, or the presiding officer. Participants are requested not to include personal privacy information, such as social security numbers, home addresses, or home phone numbers in their filings, unless an NRC regulation or other law requires submission of such information. However, a request to intervene will require including information on local residence in order to demonstrate a proximity assertion of interest in the proceeding. With respect to copyrighted works, except for limited excerpts that serve the purpose of the adjudicatory filings and would constitute a Fair Use application, participants are requested not to include copyrighted materials in their submission.

Petitions for leave to intervene must be filed no later than 60 days from the date of publication of this notice. Requests for hearing, petitions for leave to intervene, and motions for leave to file new or amended contentions that are filed after the 60-day deadline will not be entertained absent a determination by the presiding officer that the filing demonstrates good cause by satisfying the three factors in 10 CFR 2.309(c)(1)(i)-(iii).

For further details with respect to these license amendment applications, see the application for amendment which is available for public inspection in ADAMS and at the NRC's PDR. For additional direction on obtaining information related to this document, see the “Obtaining Information and Submitting Comments” section of this document.

Duke Energy Progress Inc., Docket No. 50-261, H. B. Robinson Steam Electric Plant, Unit No. 2, Darlington County, South Carolina

Date of amendment request: September 10, 2013, as supplemented by letter dated April 8, 2014. Publicly-available versions are in ADAMS under Accession Nos. ML13262A008 and ML14106A370, respectively.

Description of amendment request: The amendment would revise Surveillance Requirement 3.4.12.6, of Technical Specification (TS) 3.4.12, Low Temperature Overpressure Protection (LTOP) System, with a Note that does not require that the surveillance be performed until 12 hours after decreasing the Reactor Coolant System (RCS) cold leg temperature to less than or equal to (≤) 350 degrees Fahrenheit (°F), which is the temperature when LTOP operability controlled by TS 3.4.12 is credited. In addition, the FREQUENCY requirement is modified to 31 days after the initial testing has been proven to be acceptable. The changes are in accordance with NUREG-1431, Revision 3, “Standard Technical Specifications—Westinghouse Plants,” dated June 2004.

Basis for proposed no significant hazards consideration determination: As required by 10 CFR 50.91(a), the licensee has provided its analysis of the issue of no significant hazards consideration, which is presented below:

1. Does the proposed change involve a significant increase in the probability or consequences of an accident previously evaluated?

Response: No.

This license amendment request proposes allowing up to a 12 hour delay in performing the COT [channel operational test] testing used to verify the LTOP lift setpoint following the RCS reaching the maximum temperature at which the LTOP is required to be operable. The pressurizer power operated relief valves (PORVs) are utilized to protect against exceeding safe pressure limits under low temperature conditions. The system is in service whenever the plant is in Modes 4, 5 and 6 with the reactor head on and the RCS cold leg temperature is at ≤ 350 °F. The proposed change does not affect the function of the LTOP or when that function is applicable for protection of the plant. The change only adjusts the required frequency of the initial surveillance testing after the LTOP has been put into service per plant procedures. The affected surveillance testing is not assumed to be an accident initiator and has no adverse effect on the operation of the LTOP system.

Therefore, the proposed change does not involve a significant increase in the probability or consequences of an accident previously evaluated.

2. Does the proposed change create the possibility of a new or different kind of accident from any accident previously evaluated?

Response: No.

This proposed change does not alter the design, function, or operation of any plant component and does not install any new or different equipment. The malfunction of safety related equipment, assumed to be operable in the accident analyses, would not be caused as a result of the proposed technical specification change. No new failure mode has been created and no new equipment performance burdens are imposed.

Therefore, the proposed change does not create the possibility of a new or different kind of accident from any accident previously evaluated.

3. Does the proposed change involve a significant reduction in a margin of safety?

Response: No.

The pressurizer power operated relief valves (PORV) are utilized to protect against exceeding safe pressure limits under low temperature conditions. The system is in service whenever the plant is in Modes 4, 5 and 6 with the reactor head on and the RCS cold leg temperature at ≤ 350 °F. The proposed change does not affect the function of the LTOP or when that function is applicable for protection of the plant. The change only adjusts the required frequency of the initial surveillance testing after the LTOP has been put into service per plant procedures. In addition, these proposed changes may enhance plant safety and reliability because the delay in the required testing will allow the operators to focus on other critical transition activities during entry into Mode 4 operation.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Lara S. Nichols, Deputy General Counsel, Duke Energy Corporation, 550 South Tyron Street, Mail Code DEC45A, Charlotte, NC 28202.

NRC Acting Branch Chief: Lisa M. Regner.

Exelon Generation Company, LLC, Docket Nos. STN 50-456 and STN 50-457, Braidwood Station, Units 1 and 2, Will County, Illinois, Docket Nos. STN 50-454 and STN 50-455, Byron Station, Unit Nos. 1 and 2, Ogle County, Illinois

Date of amendment request: March 18, 2014. A publicly-available version is in ADAMS under Accession No. ML14077A582.

Description of amendment request: The proposed amendment would revise Technical Specifications (TS) 3.4.15, “RCS Leakage Detection Instrumentation,” to define a new time limit for restoring inoperable Reactor Coolant System (RCS) leakage detection instrumentation to operable status and establish alternate methods of monitoring RCS leakage when one or more required monitors are inoperable. The changes are consistent with NRC-approved Revision 3 to Technical Specification Task Force (TSTF) Improved Standard Technical Specification (STS) Change Traveler TSTF-513, “Revise PWR Operability Requirements and Actions for RCS Leakage Instrumentation.”

The availability of this TS improvement was announced in the Federal Register on January 3, 2011 (76 FR 189), as part of the consolidated line item improvement process.

Basis for proposed no significant hazards consideration determination: As required by 10 CFR 50.91(a), the licensee has provided its analysis of the issue of no significant hazards consideration, which is presented below:

1. Does the Proposed Change Involve a Significant Increase in the Probability or Consequences of an Accident Previously Evaluated?

Response: No.

The proposed change clarifies the operability requirements for the RCS leakage detection instrumentation, and prescribes the time allowed for the plant to operate when the only TS-required operable RCS leakage detection instrumentation monitor is the containment atmosphere gaseous radioactivity monitor. The monitoring of RCS leakage is not a precursor to any accident previously evaluated. The monitoring of RCS leakage is not used to mitigate the consequences of any accident previously evaluated.

Therefore, it is concluded that the proposed change does not involve a significant increase in the probability or consequences of an accident previously evaluated.

2. Does the Proposed Change Create the Possibility of a New or Different Kind of Accident from any Accident Previously Evaluated?

Response: No.

The proposed change clarifies the operability requirements for the RCS leakage detection instrumentation and prescribes the time allowed for the plant to operate when the only TS-required operable RCS leakage detection instrumentation monitor is the containment atmosphere gaseous radioactivity monitor. The proposed change does not involve a physical alteration of the plant (no new or different type of equipment will be installed) or a change in the methods governing normal plant operation. The proposed change maintains sufficient continuity and diversity of leak detection capability that the probability of piping evaluated and approved for Leak-Before-Break progressing to pipe rupture remains extremely low.

Therefore, it is concluded that the proposed change does not create the possibility of a new or different kind of accident from any previously evaluated.

3. Does the Proposed Change Involve a Significant Reduction in a Margin of Safety?

Response: No.

The proposed change reintroduces the containment atmosphere gaseous radioactivity monitor as an option for meeting the operability requirement for TS 3.4.15 LCO [Limiting Condition for Operation], clarifies the operability requirements for the RCS leakage detection instrumentation and prescribes the time allowed for the plant to operate when the only TS-required operable RCS leakage detection instrumentation monitor is the containment atmosphere gaseous radiation monitor.

The proposed change reintroduces the containment atmosphere gaseous radioactivity monitor as an option for meeting the operability requirement for TS 3. 4.15 LCO, since industry experience has shown that the containment atmosphere gaseous radiation monitor is useful to detect an increase in RCS leak rate and provides a diverse means to confirm an RCS leak exists when other monitors detect an increase in RCS leak rate.

The amount of time the plant is allowed to operate with only the containment atmosphere gaseous radioactivity monitor operable does not result in a reduction in the margin of safety since an increase in RCS leakage will be detected before it potentially results in a gross failure.

Therefore, it is concluded that the proposed change does not involve a significant reduction in a margin of safety.

Based upon the above analysis, EGC [Exelon Generation Company, LLC] concludes that the requested change does not involve a significant hazards consideration, as set forth in 10 CFR 50.92(c), “Issuance of Amendment.”

The NRC staff has reviewed the licensee's analysis and, based on this review, it appears that the three standards of 10 CFR 50.92(c) are satisfied. Therefore, the NRC staff proposes to determine that the requested amendments involve no significant hazards consideration.

Attorney for licensee: Mr. Bradley J. Fewell, Associate General Counsel, Exelon Nuclear, 4300 Winfield Road, Warrenville, IL 60555.

NRC Branch Chief: Travis L. Tate.

Northern States Power Company—Minnesota, Docket No. 50-263, Monticello Nuclear Generating Plant (MNGP), Wright County, Minnesota

Date of amendment request: October 30, 2012, as supplemented by letters dated May 16, 2013, June 7, 2013, March 13, 2014, and May 30, 2014. Publicly-available versions are in ADAMS under Accession Nos. ML123070544, ML13136A145, ML13158A269, ML14072A390, and ML14150A271, respectively).

Description of amendment request: The amendment proposes to revise the MNGP technical specification (TS) 4.3.1, “Fuel Storage Criticality,” and TS 4.3.3, “Fuel Storage Capacity,” to reflect fuel storage system changes; a revised criticality safety analysis that addresses legacy fuel types, in addition to the planned use of AREVA Atrium™ 10XM fuel design; and adds a new TS 5.5.15, “Spent Fuel Pool Boral Monitoring Program,” for assuring that the spent fuel pool storage rack neutron absorber material (Boral) meets the minimum requirements assumed in the criticality safety analysis.

Basis for proposed no significant hazards consideration determination: As required by 10 CFR 50.91(a), the licensee has provided its analysis of the issue of no significant hazards consideration, which the Commission issued in the Federal Register on June 11, 2013 (78 FR 35063). The Commission is issuing a revised no significant hazards consideration to consider the aspects of the new program TS 5.5.15.

1. Does the proposed amendment involve a significant increase in the probability or consequences of an accident previously evaluated?

Response: No.

The proposed amendment does not change the fuel handling processes, fuel storage racks, decay heat generation rate, or the SFP [spent fuel pool] cooling and cleanup system. The proposed amendment was evaluated for impact on the following previously-evaluated events and accidents: (1) Fuel handling accident (FHA), (2) fuel assembly misleading, (3) seismically-induced movement of spent fuel storage racks, and (4) loss of spent fuel pool cooling.

Whereas fuel handling procedures will not be changed materially for the new fuel type or the revised criticality methods, the probability of a FHA is not increased because the implementation of the proposed amendment will employ the same equipment and procedures to handle fuel assemblies that are currently used. Therefore, the proposed amendment does not increase the probability or occurrence of a FHA. In that the proposed amendment does not increase the mechanistic damage to a fuel assembly or the radiological source term of any fuel assembly, the amendment would not increase the radiological consequences of a FHA. With regard to the potential criticality consequences of a dropped assembly coming to rest adjacent to a storage rack or on top of a storage rack, the results are bounded by the current analysis involving a potential missing neutron poison plate in the storage rack. The fuel configuration caused by a dropped assembly resting on top of loaded storage racks is inherently bounded by the assembly misloaded in the storage rack because the misloaded assembly is in closer proximity to other assemblies along its entire fuel length.

Operation in accordance with the proposed amendment will not change the probability of a fuel assembly misloading because fuel movement will continue to be controlled by approved fuel selection and fuel handling procedures. The consequences of a fuel misloading event (fuel assembly loaded into an unapproved location) are not changed because the reactivity analysis demonstrates that the same subcriticality criteria and requirements continue to be met for the worst-case fuel misloading event.

Operation in accordance with the proposed amendment will not change the probability of occurrence of a seismic event, which is considered an Act of God. Also, the consequences of a seismic event are not changed because the proposed amendment involves no significant change to the types of material stored in SFP storage racks or their mass. In this manner, the forcing functions for seismic excitation and the resulting forces are not changed. Also, particular to criticality, the supporting criticality analysis takes no credit for gaps between high-density rack modules so any seismically-induced movement between high-density racks that puts them in closer proximity would not result in an unanalyzed condition with consequences worse than those analyzed. Also, the small displacement of the high-density rack closest to the fixed location of the low-density rack will not put those racks in a closer proximity than that analyzed. In summary, the proposed amendment will not increase the probability or consequence of a seismic event.

Operation in accordance with the proposed amendment will not change the probability of a loss of spent fuel pool cooling because the changes in fuel criticality limits and introduction of the ATRIUM 10XM fuel design have no bearing on the systems, structures, and components involved in initiating such an event. The proposed amendment does not change the heat load imposed by spent fuel assemblies nor does it change the flow paths in the spent fuel pool. Therefore, the accident consequences are not increased for the proposed amendment.

The proposed amendment would establish a TS requirement to provide and maintain a monitoring program for SFP storage rack Boral. In that regard, the proposed TS does not change the fuel handling processes, fuel storage racks, the character of the nuclear fuel, or the SFP cooling and cleanup systems that might affect the probability or consequences of an accident associated with the SFP.

Therefore, the proposed changes do not involve a significant increase in the probability or consequences of an accident previously evaluated.

2. Do the proposed changes create the possibility of a new or different kind of accident from any accident previously evaluated?

Response: No.

The proposed amendment involves no new SFP loading configurations for current and legacy fuel designs of the nuclear plant. The proposed amendment does not change or modify the fuel handling processes, fuel storage racks, decay heat generation rate, or the spent fuel pool cooling and cleanup system. Further, the new fuel type does not introduce any incompatible materials to the spent fuel pool environment.

As such, the proposed changes introduce no new material interactions, man-machine interfaces, or processes that could create the potential for an accident of a new or different type.

Operation with the proposed amendment will not create a new or different kind of accident because fuel movement will continue to be controlled by approved fuel handling procedures. There are no changes in the criteria or design requirements pertaining to fuel storage safety, including subcriticality requirements, and analyses demonstrate that the proposed storage arrays meet these requirements and criteria with adequate margins. Thus, the proposed storage arrays cannot cause a new or different kind of accident.

The proposed amendment would establish a TS requirement to provide and maintain a monitoring program for SFP storage rack Boral. As such, the proposed changes introduce no new material interactions, man-machine interfaces, or processes that could create the potential for an accident of a new or difference type.

Therefore, the proposed changes do not create the possibility of a new or different kind of accident from any previously evaluated.

3. Do the proposed changes involve a significant reduction in a margin of safety?

Response: No.

The proposed amendment was evaluated for its effect on current margins of safety for criticality. Although the amendment involves changing the subcriticality acceptance limit for the low-density storage rack from a value of 0.90 to 0.95, the margin of safety for subcriticality is not significantly reduced in that the limit is consistent with that of the other storage racks and the regulation described by 10 CFR 50.68 (b)(4). The new criticality analysis confirms that operation in accordance with the proposed amendment continues to meet the required subcriticality margin.

The proposed amendment would establish a TS requirement to provide and maintain a monitoring program for SFP storage rack Boral. The proposed TS expressly establishes an acceptance criterion that relates directly to the minimum neutron attenuation capability assumed in the criticality safety analysis. Thus, it is expressly created to maintain the safety margin established in the analysis. As such, the proposed changes introduce no change to plant system operation or nuclear fuel characteristics that would affect the margin of safety for plant systems.

Therefore, the proposed changes do not involve a significant reduction in the margin of safety.

The NRC staff has reviewed the licensee's analysis and, based on this review, it appears that the three standards of 10 CFR 50.92(c) are satisfied. Therefore, the NRC staff proposes to determine that the amendment request involves no significant hazards consideration.

Attorney for licensee: Peter M. Glass, Assistant General Counsel, Xcel Energy Services, Inc., 414 Nicollet Mall, Minneapolis, MN 55401.

NRC Branch Chief: Robert D. Carlson.

Southern Nuclear Operating Company, Inc., Georgia Power Company, Oglethorpe Power Corporation, Municipal Electric Authority of Georgia, City of Dalton, Georgia, Docket Nos. 50-321 and 50-366, Edwin I. Hatch Nuclear Plant (HNP), Unit Nos. 1 and 2, Appling County, Georgia

Date of amendment request: March 24, 2014. A publicly-available version is in ADAMS under Accession No. ML14084A201.

Description of amendment request: The proposed amendments would modify Technical Specification (TS) Reactor Core Safety Limits 2.1.1.1 and 2.1.1.2 to reduce the reactor steam dome pressure from 785 to 685 psig. The licensee states that this revision will resolve a concern reported pursuant to 10 CFR Part 21, “Reporting of Defects and Noncompliance” regarding the potential to violate Reactor Core Safety Limit 2.1.1.1 during a pressure regulator failure open (PRFO) transient.

Basis for proposed no significant hazards consideration determination: As required by 10 CFR 50.91(a), an analysis of the issue of no significant hazards consideration is presented below:

SNC has evaluated the proposed amendment in accordance with 10 CFR 50.91 against the standards in 10 CFR 50.92 and has determined that the operation of the HNP Units 1 and 2 in accordance with the proposed amendment presents no significant hazards. SNC's evaluation against each of the criteria in 10 CFR 50.92 follows.

1. Does the proposed amendment involve a significant increase in the probability or consequences of an accident previously evaluated?

Response: No.

The proposed change to the reactor steam dome pressure in Reactor Core Safety Limits 2.1.1.1 and 2.1.1.2 does not alter the use of the analytical methods used to determine the safety limits that have been previously reviewed and approved by the NRC. The proposed change is in accordance with an NRC approved critical power correlation methodology, and as such, maintains required safety margins. The proposed change does not adversely affect accident initiators or precursors, nor does it alter the design assumptions, conditions, or configuration of the facility or the manner in which the plant is operated and maintained.

The proposed change does not alter or prevent the ability of structures, systems, and components (SSCs) from performing their intended function to mitigate the consequences of an initiating event within the assumed acceptance limits. The proposed change does not require any physical change to any plant SSCs nor does it require any change in systems or plant operations. The proposed change is consistent with the safety analysis assumptions and resultant consequences.

Therefore, the proposed change does not involve a significant increase in the probability or consequences of an accident previously evaluated.

2. Does the proposed amendment create the possibility of a new or different kind of accident from any accident previously evaluated?

Response: No.

There are no hardware changes nor are there any changes in the method by which any plant systems perform a safety function. No new accident scenarios, failure mechanisms, or limiting single failures are introduced as a result of the proposed change.

The proposed change does not introduce any new accident precursors, nor does it involve any physical plant alterations or changes in the methods governing normal plant operation. Also, the change does not impose any new or different requirements or eliminate any existing requirements. The change does not alter assumptions made in the safety analysis.

Therefore, the proposed change does not create the possibility of a new or different kind of accident from any previously evaluated.

3. Does the proposed amendment involve a significant reduction in a margin of safety?

Response: No.

Margin of safety is related to confidence in the ability of the fission product barriers (fuel cladding, reactor coolant system, and primary containment) to perform their design functions during and following postulated accidents. Evaluation of the 10 CFR Part 21 condition by General Electric determined that since the Minimum Critical Power Ratio improves during the PRFO transient, there is no decrease in the safety margin and therefore there is not a threat to fuel cladding integrity.

The proposed change to Reactor Core Safety Limits 2.1.1.1 and 2.1.1.2 is consistent with and within the capabilities of the applicable NRC approved critical power correlation for the fuel designs in use at HNP Units 1 and 2. No setpoints at which protective actions are initiated are altered by the proposed change. The proposed change does not alter the manner in which the safety limits are determined. This change is consistent with plant design and does not change the TS operability requirements; thus, previously evaluated accidents are not affected by this proposed change.

Therefore, the proposed changes do not involve a significant reduction in a margin of safety.

Based on the above, SNC has determined that operation of the facility in accordance with the proposed change does not involve a significant hazards consideration as defined in 10 CFR 50.92(c), in that it does not: (1) Involve a significant increase in the probability or consequences of an accident previously evaluated; or (2) create the possibility of a new or different kind of accident from any accident previously evaluated; or (3) involve a significant reduction in a margin of safety.

The NRC staff has reviewed the licensee's analysis and, based on this review, it appears that the three standards of 10 CFR 50.59(c) are satisfied. Therefore, the NRC staff proposes to determine that the amendment request involves no significant hazards consideration.

Attorney for licensee: Ernest L. Blake, Jr., Esquire, Shaw, Pittman, Potts and Trowbridge, 2300 N Street NW., Washington, DC 20037

NRC Branch Chief: Robert Pascarelli.

Tennessee Valley Authority, Docket Nos. 50-327 and 50-328, Sequoyah Nuclear Plant (SQN), Units 1 and 2, Hamilton County, Tennessee

Date of amendment request: November 22, 2013. A publicly-available version is in ADAMS under Accession No. ML13329A717.

Description of amendment request: The amendment would revise the current Technical Specifications (CTS) to Standard Technical Specifications (STS) consistent with the Improved Standard Technical Specifications (ITS) described in NUREG-1431, “Standard Technical Specifications—Westinghouse Plants,” Revision 4. Licensees are encouraged to upgrade their plant-specific technical specifications to the ITS to achieve a high degree of standardization and consistency as described in NUREG-1431 Rev. 4 (ADAMS Accession No. ML12100A222). A number of changes and revisions have been made to those STS, which includes the adoption of some recent Technical Specification Task Force (TSTF) travelers. The LAR also includes changes that are beyond the scope of the ITS as described in NUREG-1431, Revision 4.

Enclosure 1 of the LAR contains “Contents of the Sequoyah Nuclear Plant, Units 1 and 2, ITS Submittal,” which describes the organization and content of the submittal, including each of the volumes in Enclosure 2.

Enclosure 2 of the LAR contains 16 volumes and the bases for the proposed ITS. These bases, however, are not part of the technical specifications and are not part of the staff's review, but are maintained consistent with the Updated Final Safety Analysis Report (UFSAR). Volumes 1-14 provide a detailed description of the proposed changes to the following ITS Chapters and Sections:

Volume 1 | Application of Selection Criteria.
Volume 2. | No Significant Hazard Consideration and Environmental Assessment.
Volume 3 | ITS Chapter 1.0, Use and Application.
Volume 4 | ITS Chapter 2.0, Safety Limits.
Volume 5 | ITS Section 3.0, Limiting Condition for Operation (LCO) Applicability and Surveillance Requirement (SR) Applicability.
Volume 6 | ITS Section 3.1, Reactivity Control Systems.
Volume 7 | ITS Section 3.2, Power Distribution Limits.
Volume 8 | ITS Section 3.3, Instrumentation.
Volume 9 | ITS Section 3.4, Reactor Coolant System (RCS).
Volume 10 | ITS Section 3.5, Emergency Core Cooling Systems (ECCS).
Volume 11 | ITS Section 3.6, Containment Systems.
Volume 12 | ITS Section 3.7, Plant Systems.
Volume 13 | ITS Section 3.8, Electrical Power Systems.
Volume 14 | ITS Section 3.9, Refueling Operations.
Volume 15 | ITS Chapter 4.0, Design Features.
Volume 16 | ITS Chapter 5.0, Administrative Controls.

Enclosure 3 of the LAR provides a description of the 15 beyond scope changes and 7 TSTF travelers that are likely to need a formal Technical Branch review. Enclosure 4 provides evaluations that justify adoption of changes to the Reactor Trip and Engineered Safety Features Actuation Systems. Enclosure 5 provides evaluations that justify adoption of changes to the extension of containment isolation valve completion times. Enclosure 6 provides information on the disposition of other LARs as they related to the SQN ITS conversion. Enclosure 7 lists the NRC-approved changes to NUREG-1431, Revision 4, as of March 6, 2011, and summarizes TVA's disposition of these changes in the SQN ITS conversion. Enclosure 8 lists the regulatory commitments made in TVA's ITS conversion LAR. Enclosure 9 provides a summary of the UFSAR descriptions required as part of the adoption of TSTF-500, “DC [direct current] Electrical Rewrite—Update to TSTF-360” (ADAMS Accession No. ML111751792). Enclosure 10 provides documentation of TVA's Probabilistic Risk Assessment technical adequacy required as part of the adoption of TSTF-425, “Relocate Surveillance Frequencies to Licensee Control—RITSTF Initiative 5b” (ADAMS Package Accession No. ML090850642).

This notice is based on the November 22, 2013, request, and the information provided to the NRC through the Sequoyah ITS Conversion Web page hosted by Excel Services Corporation at http://www.excelservices.com. To expedite the review of the application, the NRC staff has issued and will issue its requests for additional information (RAIs) using the ITS Conversion Web page. The licensee has addressed and will address the NRC staff's RAIs through the ITS Conversion Web page. Entry into the database is protected so that only NRC reviewers can enter information into the database to add RAIs and only the licensee can enter the database to provide responses to the RAIs; however, the public can enter the database to read the questions asked and the responses provided. To be in compliance with the regulations for written communications for LARs and to have the database on the SQN dockets before the amendments would be issued, the licensee will provide a copy of the database in a submittal to the NRC after the staff has no further RAIs and before the NRC staff's decisions on the amendments are made. The RAIs and responses to RAIs are organized by ITS Section.

The licensee has classified each proposed change to the SQN CTS into one of the following five categories (with its letter designator within brackets):

• Administrative changes (A)—Changes to the CTS that do not result in new requirements or change operational restrictions or flexibility. These changes are supported in aggregate by a single generic no significant hazards consideration (NSHC).

• More restrictive changes (M)—Changes to the CTS that result in added restrictions or reduced flexibility. These changes are supported in aggregate by a single generic NSHC.

• Relocated specifications (R)—Changes to the CTS that relocate specifications that do not meet the selection criteria of § 50.36(c)(2)(ii) of Title 10 of the Code of Federal Regulations (10 CFR). These changes are supported in aggregate by a single generic NSHC.

• Removed detail changes (LA)—Changes to the CTS that eliminate detail and relocate the detail to a licensee-controlled document. Typically, this involves details of system design and function, or procedural detail on methods of conducting a Surveillance Requirement (SR). These changes are supported in aggregate by a single generic NSHC.

• Less restrictive changes (L)—Changes to the CTS that result in reduced restrictions or added flexibility. These changes are supported either in aggregate by a generic NSHC that addresses a particular category of less restrictive change, or by a specific NSHC if the change does not fall into one of the nine categories of less restrictive changes. The nine categories of less restrictive changes are designated as:

Category 1: Relaxation of LCO Requirements

Category 2: Relaxation of Applicability

Category 3: Relaxation of Completion Time

Category 4: Relaxation of Required Action

Category 5: Deletion of Surveillance Requirement

Category 6: Relaxation of Surveillance Requirement Acceptance Criteria

Category 7: Relaxation of Surveillance Frequency

Category 8: Deletion of Surveillance Requirement Shutdown Performance Requirements

Category 9: Allowed Outage Time, Surveillance Frequency, and Bypass Time Extensions Based on Generic Topical Reports

Basis for proposed no significant hazards consideration determination (NSHC): As required by 10 CFR 50.91(a), the licensee has provided its analysis of the issue of NSHC, by classification of change, which is presented below. The generic proposed NSHC, by classification of change, are listed first, followed by the specific proposed NSHC related to less restrictive changes.

For those less restrictive changes that do not fall into one of the generic “Less Restrictive Change” categories, or those changes that are in the “More Restrictive Change” categories, specific NSHC evaluations have been provided:

• ITS Chapter 1.0, “Use and Applications,” Less Restrictive Change L01

• ITS Section 3.0, “LCO and SR Applicability,” Less Restrictive Change L01

• ITS Section 3.0, “LCO and SR Applicability,” Less Restrictive Change L02

• ITS Section 3.3.1, “Reactor Trip System (RTS) Instrumentation,” Less Restrictive Change L11 and L12

• ITS Section 3.3.1, “Reactor Trip System (RTS) Instrumentation,” More Restrictive Change M24

Generic Proposed NSHC

Administrative Changes

1. Does the proposed change involve a significant increase in the probability or consequences of an accident previously evaluated?

Response: No.

The proposed change involves reformatting, renumbering, and rewording the CTS. The reformatting, renumbering, and rewording process involves no technical changes to the CTS. As such, this change is administrative in nature and does not affect initiators of analyzed events or assumed mitigation of accident or transient events.

Therefore, the proposed change does not involve a significant increase in the probability or consequences of an accident previously evaluated.

2. Does the proposed change create the possibility of a new or different kind of accident from any accident previously evaluated?

Response: No.

The proposed change does not involve a physical alteration of the plant (no new or different type of equipment will be installed) or changes in methods governing normal plant operation. The proposed change will not impose any new or eliminate any old requirements.

Therefore, the proposed change does not create the possibility of a new or different kind of accident from any previously evaluated.

3. Does the proposed change involve a significant reduction in a margin of safety?

Response: No.

The proposed change will not reduce a margin of safety because it has no effect on any safety analyses assumptions. This change is administrative in nature.

Therefore, the proposed change does not involve a significant reduction in a margin of safety.

More Restrictive Changes

1. Does the proposed change involve a significant increase in the probability or consequences of an accident previously evaluated?

Response: No.

The proposed change provides more stringent Technical Specification requirements for the facility. These more stringent requirements do not result in operations that significantly increase the probability of initiating an analyzed event, and do not alter assumptions relative to mitigation of an accident or transient event. The more restrictive requirements continue to ensure process variables, structures, systems, and components are maintained consistent with the safety analyses and licensing basis.

Therefore, the proposed change does not involve a significant increase in the probability or consequences of an accident previously evaluated.

2. Does the proposed change create the possibility of a new or different kind of accident from any accident previously evaluated?

Response: No.

The proposed change does not involve a physical alteration of the plant (no new or different type of equipment will be installed) or changes in methods governing normal plant operation. The proposed change does impose different Technical Specification requirements. However, these changes are consistent with the assumptions in the safety analyses and licensing basis.

Therefore, the proposed change does not create the possibility of a new or different kind of accident from any previously evaluated.

3. Does the proposed change involve a significant reduction in a margin of safety?

Response: No.

The imposition of more restrictive requirements either has no effect on or increases the margin of plant safety. As provided in the discussion of change, each change in this category is, by definition, providing additional restrictions to enhance plant safety. The change maintains requirements within the safety analyses and licensing basis.

Therefore, the proposed change does not involve a significant reduction in a margin of safety.

Relocated Specifications

1. Does the proposed change involve a significant increase in the probability or consequences of an accident previously evaluated?

Response: No.

The proposed change relocates requirements and Surveillances for structures, systems, components, or variables that do not meet the criteria of 10 CFR 50.36(c)(2)(ii) for inclusion in Technical Specifications as identified in the Application of Selection Criteria to the SQN Technical Specifications. The affected structures, systems, components or variables are not assumed to be initiators of analyzed events and are not assumed to mitigate accident or transient events. The requirements and Surveillances for these affected structures, systems, components, or variables will be relocated from the CTS to the TRM [Technical Requirements Manual], which is currently incorporated by reference into the UFSAR, thus it will be maintained pursuant to 10 CFR 50.59. The UFSAR is subject to the change control provisions of 10 CFR 50.59 and 10 CFR 50.71(e). In addition, the affected structures, systems, components, or variables are addressed in existing surveillance procedures which are also controlled by 10 CFR 50.59, and are subject to the change control provisions imposed by plant administrative procedures, which endorse applicable regulations and standards.

Therefore, the proposed change does not involve a significant increase in the probability or consequences of an accident previously evaluated.

2. Does the proposed change create the possibility of a new or different kind of accident from any accident previously evaluated?

Response: No.

The proposed change does not involve a physical alteration of the plant (no new or different type of equipment will be installed) or change in the methods governing normal plant operation. The proposed change will not impose or eliminate any requirements, and adequate control of existing requirements will be maintained.

Therefore, the proposed change does not create the possibility of a new or different kind of accident from any previously evaluated.

3. Does the proposed change involve a significant reduction in a margin of safety?

Response: No.

The proposed change will not reduce a margin of safety because it has no significant effect on any safety analyses assumptions, as indicated by the fact that the requirements do not meet the 10 CFR 50.36 criteria for retention. In addition, the relocated requirements are moved without change, and any future changes to these requirements will be evaluated per 10 CFR 50.59.

NRC prior review and approval of changes to these relocated requirements, in accordance with 10 CFR 50.92, will no longer be required. This review and approval does not provide a specific margin of safety that can be evaluated. However, the proposed change is consistent with NUREG-1431, issued by the NRC, which allows revising the CTS to relocate these requirements and Surveillances to a licensee controlled document.

Therefore, the proposed change does not involve a significant reduction in the margin of safety.

Removed Detail Changes

1. Does the proposed change involve a significant increase in the probability or consequences of an accident previously evaluated?

Response: No.

The proposed change relocates certain details from the CTS to other documents under regulatory control. The Technical Specification Bases and the TRM, which is currently incorporated by reference into the UFSAR, will be maintained in accordance with 10 CFR 50.59. In addition to 10 CFR 50.59 provisions, the Technical Specification Bases are subject to the change control provisions in the Administrative Controls Chapter of the ITS. The UFSAR is subject to the change control provisions of 10 CFR 50.59 and 10 CFR 50.71(e). Other documents are subject to controls imposed by the ITS or other regulations. Since any changes to these documents will be evaluated, no significant increase in the probability or consequences of an accident previously evaluated will be allowed.

Therefore, the proposed change does not involve a significant increase in the probability or consequences of an accident previously evaluated.

2. Does the proposed change create the possibility of a new or different kind of accident from any accident previously evaluated?

Response: No.

The proposed change does not involve a physical alteration of the plant (no new or different type of equipment will be installed) or changes in methods governing normal plant operation. The proposed change will not impose or eliminate any requirements, and adequate control of the information will be maintained.

Therefore, the proposed change does not create the possibility of a new or different kind of accident from any previously evaluated.

3. Does the proposed change involve a significant reduction in a margin of safety?

Response: No.

The proposed change will not reduce a margin of safety because it has no effect on any safety analyses assumptions. In addition, the details to be moved from the CTS to other documents are not being changed. Since any future changes to these details will be evaluated under the applicable regulatory change control mechanism, no significant reduction in a margin of safety will be allowed. A significant reduction in the margin of safety is not associated with the elimination of the 10 CFR 50.90 requirement for NRC review and approval of future changes to the relocated details. Not including these details in the Technical Specifications is consistent with NUREG-1431, issued by the NRC, which allows revising the Technical Specifications to relocate these requirements and Surveillances to a licensee controlled document controlled by 10 CFR 50.59, 10 CFR 50.71(e), or other Technical Specification controlled or regulation controlled documents.

Therefore, the proposed change does not involve a significant reduction in the margin of safety.

Less Restrictive Changes—Category 1—Relaxation of LCO Requirements

1. Does the proposed change involve a significant increase in the probability or consequences of an accident previously evaluated?

Response: No.

The proposed change provides less restrictive LCO requirements for operation of the facility. These less restrictive LCO requirements do not result in operation that will significantly increase the probability of initiating an analyzed event and do not alter assumptions relative to mitigation of an accident or transient event in that the requirements continue to ensure process variables, structures, systems, and components are maintained consistent with the current safety analyses and licensing basis.

Therefore, the proposed change does not involve a significant increase in the probability or consequences of an accident previously evaluated.

2. Does the proposed change create the possibility of a new or different kind of accident from any accident previously evaluated?

Response: No.

The proposed change does not involve a physical alteration of the plant (no new or different type of equipment will be installed) or a change in the methods governing normal plant operation. The proposed change does impose different requirements. However, the change is consistent with the assumptions in the current safety analyses and licensing basis.

Therefore, the proposed change does not create the possibility of a new or different kind of accident from any previously evaluated.

3. Does the proposed change involve a significant reduction in a margin of safety?

Response: No.

The imposition of less restrictive LCO requirements does not involve a significant reduction in the margin of safety. As provided in the discussion of change, this change has been evaluated to ensure that the current safety analyses and licensing basis requirements are maintained.

Therefore, the proposed change does not involve a significant reduction in a margin of safety.

Less Restrictive Changes—Category 2—Relaxation of Applicability

1. Does the proposed change involve a significant increase in the probability or consequences of an accident previously evaluated?

Response: No.

The proposed change relaxes the conditions under which the LCO requirements for operation of the facility must be met. These less restrictive applicability requirements for the LCOs do not result in operation that will significantly increase the probability of initiating an analyzed event and do not alter assumptions relative to mitigation of an accident or transient event in that the requirements continue to ensure that process variables, structures, systems, and components are maintained in the MODES and other specified conditions assumed in the safety analyses and licensing basis.

Therefore, the proposed change does not involve a significant increase in the probability or consequences of an accident previously evaluated.

2. Does the proposed change create the possibility of a new or different kind of accident from any accident previously evaluated?

Response: No.

The proposed change does not involve a physical alteration of the plant (no new or different type of equipment will be installed) or a change in the methods governing normal plant operation. The proposed change does impose different requirements. However, the requirements are consistent with the assumptions in the safety analyses and licensing basis.

Therefore, the proposed change does not create the possibility of a new or different kind of accident from any previously evaluated.

3. Does the proposed change involve a significant reduction in a margin of safety?

Response: No.

The relaxed applicability of LCO requirements does not involve a significant reduction in the margin of safety. As provided in the discussion of change, this change has been evaluated to ensure that the LCO requirements are applied in the MODES and specified conditions assumed in the safety analyses and licensing basis.

Therefore, the proposed change does not involve a significant reduction in a margin of safety.

Less Restrictive Changes—Category 3—Relaxation of Completion Time

1. Does the proposed change involve a significant increase in the probability or consequences of an accident previously evaluated?

Response: No.

The proposed change relaxes the Completion Time for a Required Action. Required Actions and their associated Completion Times are not initiating conditions for any accident previously evaluated, and the accident analyses do not assume that required equipment is out of service prior to the analyzed event. Consequently, the relaxed Completion Time does not significantly increase the probability of any accident previously evaluated. The consequences of an analyzed accident during the relaxed Completion Time are the same as the consequences during the existing Completion Time. As a result, the consequences of any accident previously evaluated are not significantly increased.

Therefore, the proposed change does not involve a significant increase in the probability or consequences of an accident previously evaluated.

2. Does the proposed change create the possibility of a new or different kind of accident from any accident previously evaluated?

Response: No.

The proposed change does not involve a physical alteration of the plant (no new or different type of equipment will be installed) or a change in the method governing normal plant operation. The Required Actions and associated Completion Times in the ITS have been evaluated to ensure that no new accident initiators are introduced.

Therefore, the proposed change does not create the possibility of a new or different kind of accident from any previously evaluated.

3. Does the proposed change involve a significant reduction in a margin of safety?

Response: No.

The relaxed Completion Time for a Required Action does not involve a significant reduction in the margin of safety. As provided in the discussion of change, the change has been evaluated to ensure that the allowed Completion Time is consistent with safe operation under the specified Condition, considering the OPERABILITY status of the redundant systems of required features, the capacity and capability of remaining features, a reasonable time for repairs or replacement of required features, and the low probability of a DBA [design basis accident] occurring during the repair period.

Therefore, the proposed change does not involve a significant reduction in a margin of safety.

Less Restrictive Changes—Category 4—Relaxation of Required Action

1. Does the proposed change involve a significant increase in the probability or consequences of an accident previously evaluated?

Response: No.

The proposed change relaxes Required Actions. Required Actions and their associated Completion Times are not initiating conditions for any accident previously evaluated, and the accident analyses do not assume that required equipment is out of service prior to the analyzed event. Consequently, the relaxed Required Actions do not significantly increase the probability of any accident previously evaluated. The Required Actions in the ITS have been developed to provide appropriate remedial actions to be taken in response to the degraded condition considering the OPERABILITY status of the redundant systems of required features, and the capacity and capability of remaining features while minimizing the risk associated with continued operation. As a result, the consequences of any accident previously evaluated are not significantly increased.

Therefore, the proposed change does not involve a significant increase in the probability or consequences of an accident previously evaluated.

2. Does the proposed change create the possibility of a new or different kind of accident from any accident previously evaluated?

Response: No.

The proposed change does not involve a physical alteration of the plant (no new or different type of equipment will be installed) or a change in the methods governing normal plant operation. The Required Actions and associated Completion Times in the ITS have been evaluated to ensure that no new accident initiators are introduced.

Therefore, the proposed change does not create the possibility of a new or different kind of accident from any previously evaluated.

3. Does the proposed change involve a significant reduction in a margin of safety?

Response: No.

The relaxed Required Actions do not involve a significant reduction in the margin of safety. As provided in the discussion of change, this change has been evaluated to minimize the risk of continued operation under the specified Condition, considering the OPERABILITY status of the redundant systems of required features, the capacity and capability of remaining features, a reasonable time for repairs or replacement of required features, and the low probability of a Design Basis Accident (DBA) occurring during the repair period.

Therefore, the proposed change does not involve a significant reduction in a margin of safety.

Less Restrictive Changes—Category 5—Deletion of Surveillance Requirement

1. Does the proposed change involve a significant increase in the probability or consequences of an accident previously evaluated?

Response: No.

The proposed change deletes Surveillance Requirements. Surveillances are not initiators to any accident previously evaluated. Consequently, the probability of an accident previously evaluated is not significantly increased. The equipment being tested is still required to be OPERABLE and capable of performing the accident mitigation functions assumed in the accident analyses. As a result, the consequences of any accident previously evaluated are not significantly affected.

Therefore, the proposed change does not involve a significant increase in the probability or consequences of an accident previously evaluated.

2. Does the proposed change create the possibility of a new or different kind of accident from any accident previously evaluated?

Response: No.

The proposed change does not involve a physical alteration of the plant (no new or different type of equipment will be installed) or a change in the methods governing normal plant operation. The remaining Surveillance Requirements are consistent with industry practice, and are considered sufficient to prevent the removal of the subject Surveillances from creating a new or different type of accident.

Therefore, the proposed change does not create the possibility of a new or different kind of accident from any previously evaluated.

3. Does the proposed change involve a significant reduction in a margin of safety?

Response: No.

The deleted Surveillance Requirements do not result in a significant reduction in the margin of safety. As provided in the discussion of change, the change has been evaluated to ensure that the deleted Surveillance Requirements are not necessary for verification that the equipment used to meet the LCO can perform its required functions. Thus, appropriate equipment continues to be tested in a manner and at a frequency necessary to give confidence that the equipment can perform its assumed safety function.

Therefore, the proposed change does not involve a significant reduction in a margin of safety.

Less Restrictive Changes—Category 6—Relaxation of Surveillance Requirement Acceptance Criteria

1. Does the proposed change involve a significant increase in the probability or consequences of an accident previously evaluated?

Response: No.

The proposed change relaxes the acceptance criteria of Surveillance Requirements. Surveillances are not initiators to any accident previously evaluated. Consequently, the probability of an accident previously evaluated is not significantly increased. The equipment being tested is still required to be OPERABLE and capable of performing the accident mitigation functions assumed in the accident analyses. As a result, the consequences of any accident previously evaluated are not significantly affected.

Therefore, the proposed change does not involve a significant increase in the probability or consequences of an accident previously evaluated.

2. Does the proposed change create the possibility of a new or different kind of accident from any accident previously evaluated?

Response: No.

The proposed change does not involve a physical alteration of the plant (no new or different type of equipment will be installed) or a change in the methods governing normal plant operation.

Therefore, the proposed change does not create the possibility of a new or different kind of accident from any previously evaluated.

3. Does the proposed change involve a significant reduction in a margin of safety?

Response: No.

The relaxed acceptance criteria for Surveillance Requirements do not result in a significant reduction in the margin of safety. As provided in the discussion of change, the relaxed Surveillance Requirement acceptance criteria have been evaluated to ensure that they are sufficient to verify that the equipment used to meet the LCO can perform its required functions. Thus, appropriate equipment continues to be tested in a manner that gives confidence that the equipment can perform its assumed safety function.

Therefore, the proposed change does not involve a significant reduction in a margin of safety.

Less Restrictive Changes—Category 7—Relaxation of Surveillance Frequency

1. Does the proposed change involve a significant increase in the probability or consequences of an accident previously evaluated?

Response: No.

The proposed change relaxes Surveillance Frequencies. The relaxed Surveillance Frequencies have been established based on achieving acceptable levels of equipment reliability. Consequently, equipment that could initiate an accident previously evaluated will continue to operate as expected, and the probability of the initiation of any accident previously evaluated will not be significantly increased. The equipment being tested is still required to be OPERABLE and capable of performing any accident mitigation functions assumed in the accident analyses. As a result, the consequences of any accident previously evaluated are not significantly affected.

Therefore, the proposed change does not involve a significant increase in the probability or consequences of an accident previously evaluated.

2. Does the proposed change create the possibility of a new or different kind of accident from any accident previously evaluated?

Response: No.

The proposed change does not involve a physical alteration of the plant (no new or different type of equipment will be installed) or a change in the methods governing normal plant operation.

Therefore, the proposed change does not create the possibility of a new or different kind of accident from any previously evaluated.

3. Does the proposed change involve a significant reduction in a margin of safety?

Response: No.

The relaxed Surveillance Frequencies do not result in a significant reduction in the margin of safety. As provided in the discussion of change, the relaxation in the Surveillance Frequency has been evaluated to ensure that it provides an acceptable level of equipment reliability. Thus, appropriate equipment continues to be tested at a Frequency that gives confidence that the equipment can perform its assumed safety function when required.

Therefore, the proposed change does not involve a significant reduction in a margin of safety.

Less Restrictive Changes—Category 8—Deletion of Surveillance Requirement Shutdown Performance Requirements

1. Does the proposed change involve a significant increase in the probability or consequences of an accident previously evaluated?

Response: No.

The proposed change involves the deletion of the requirement to perform Surveillance Requirements while in a shutdown condition. Surveillances are not initiators to any accident previously evaluated. Consequently, the probability of an accident previously evaluated is not significantly increased. The appropriate plant conditions for performance of the Surveillance will continue to be controlled in plant procedures to assure the potential consequences are not significantly increased. This control method has been previously determined to be acceptable as indicated in NRC Generic Letter No. 91-04. The proposed change does not affect the availability of equipment or systems required to mitigate the consequences of an accident because of the availability of redundant systems or equipment.

Therefore, the proposed change does not involve a significant increase in the probability or consequences of an accident previously evaluated.

2. Does the proposed change create the possibility of a new or different kind of accident from any accident previously evaluated?

Response: No.

The proposed change involves the deletion of the requirement to perform Surveillance Requirements while in a shutdown condition, but does not change the method of performance. The appropriate plant conditions for performance of the Surveillance will continue to be controlled in plant procedures to assure the possibility of a new or different kind of accident is not created. The control method has been previously determined to be acceptable as indicated in NRC Generic Letter No. 91-04.

Therefore, the proposed change does not create the possibility of a new or different kind of accident from any accident previously evaluated.

3. Does the proposed change involve a significant reduction in a margin of safety?

Response: No.

The proposed change involves the deletion of the requirement to perform Surveillance Requirements while in a shutdown condition. However, the appropriate plant conditions for performance of the Surveillance will continue to be controlled in plant procedures. The control method has been previously determined to be acceptable as indicated in NRC Generic Letter No. 91-04.

Therefore, the proposed change does not involve a significant reduction in a margin of safety.

Less Restrictive Changes—Category 9—Allowed Outage Time, Surveillance Frequency, and Bypass Time Extensions Based on Generic Topical Reports

1. Does the proposed change involve a significant increase in the probability or consequences of an accident previously evaluated?

Response: No.

The proposed changes to completion times, bypass times, the Surveillance Test Intervals (STIs) and the RTB [reactor trip breaker] Completion Time (CT) reduce the potential for inadvertent reactor trips and spurious actuations, and therefore, do not increase the probability of an accident previously evaluated.

The proposed changes will not result in a significant increase in the risk of plant operation as demonstrated in the NRC approved WCAPs [Westinghouse Commercial Atomic Power (Reports)]. The impact of plant safety as measured by core damage frequency (CDF) is less than 1.0E-06 per year and the impact of large early release frequency (LERF) is less than 1.0E-07 per year. These changes meet the acceptance criteria in Regulatory Guides 1.174 and 1.177. Therefore, there will not be a significant increase in the probability of an accident.

The proposed changes did not include any hardware changes, and therefore, all structures, systems, and components will continue to perform their intended function to mitigate the consequences of an event within the assumed acceptance limits. The proposed changes do not affect source term, containment isolation, or the radiological release assumptions used in evaluating radiological consequences of previously analyzed accidents.

Therefore, the proposed changes do not increase the consequences of an accident previously evaluated.

2. Does the proposed change create the possibility of a new or different kind of accident from any accident previously evaluated?

Response: No.

The proposed changes do not involve any hardware changes, any setpoint changes, any addition of safety related equipment, or any changes in the manner in which the systems provide plant protection.

Additionally, all operator actions credited in accident analyses remain the same. There are no new or different accident initiators or new accidents scenarios created by the proposed changes.

Therefore, the proposed changes do not create the possibility of a new or different kind of accident from any accident previously evaluated.

3. Does the proposed change involve a significant reduction in a margin of safety?

Response: No.

The safety analyses acceptance criteria in the Updated Final Safety Analysis Report (UFSAR) are not impacted by these changes. The proposed changes do not alter the manner in which safety limits, limiting safety system settings, or limiting conditions for operation are determined.

All signals and operator actions credited in the UFSAR accident analyses will remain the same. Redundant RPS [reactor protection system] and ESFAS [engineered safety feature actuation system] trains are maintained and diversity with regard to the signals that provide reactor trip and engineered safety features actuation is also maintained. The calculated impact on risk continues to meet the acceptance criteria contained in Regulatory Guides 1.174 and 1.177.

Therefore, the proposed changes do not involve a significant reduction in the margin of safety.

Specific Proposed NSHC (Change Does Not Fall Into One of Eight Categories of Less Restrictive Changes)

ITS Chapter 1.0, “Use and Applications,” Less Restrictive Change L01 (LAR, Enclosure 2, Volume 3; Revision 0, page 116 of 117):

1. Does the proposed change involve a significant increase in the probability or consequences of an accident previously evaluated?

Response: No.

The proposed change adds an allowance that an actual as well as a simulated signal can be credited during the COT [Channel Operational Test]. This change allows taking credit for unplanned actuations if sufficient information is collected to satisfy the surveillance test requirements. This change is acceptable because the channel itself cannot discriminate between an “actual” or “simulated” signal, and the proposed requirement does not change the technical content or validity of the test. This change will not affect the probability of an accident. The source of the signal sent to components during a Surveillance is not assumed to be an initiator of any analyzed event. The consequence of an accident is not affected by this change. The results of the testing, and, therefore, the likelihood of discovering an inoperable component, are unaffected. As a result, the assurance that equipment will be available to mitigate the consequences of an accident is unaffected.

Therefore, the proposed change does not involve a significant increase in the probability or consequences of an accident previously evaluated.

2. Does the proposed change create the possibility of a new or different kind of accident from any accident previously evaluated?

Response: No.

The proposed change adds an allowance that an actual as well as a simulated signal can be credited during the COT. This change will not physically alter the plant (no new or different type of equipment will be installed). The change does not require any new or revised operator actions.

Therefore, the proposed change does not create the possibility of a new or different kind of accident from any accident previously evaluated.

3. Does the proposed change involve a significant reduction in a margin of safety?

Response: No.

The proposed change adds an allowance that an actual as well as a simulated signal can be credited during the COT. The margin of safety is not affected by this change. This change allows taking credit for unplanned actuations if sufficient information is collected to satisfy the surveillance test requirements. This change is acceptable because the channel itself cannot discriminate between an “actual” or “simulated” signal. As a result, the proposed requirement does not change the technical content or validity of the test.

Therefore, the proposed change does not involve a significant reduction in a margin of safety.

ITS Section 3.0, “LCO and SR Applicability,” Less Restrictive Change L01 (LAR, Enclosure 2, Volume 5, Revision 0, page 86 of 90):

1. Does the proposed change involve a significant increase in the probability or consequences of an accident previously evaluated?

Response: No.

Barriers are not an initiator to any accident previously evaluated. The probability of an accident previously evaluated is not significantly increased. Barriers support the operation of equipment assumed to mitigate the effects of accidents previously evaluated. The proposed relaxation may only be applied to a single train or subsystem of a multiple train or subsystem Technical Specification system at a given time for a given category of initiating event, or to multiple trains or subsystems of a multiple train or subsystem Technical Specification system provided the affected barriers protect against different categories of initiating events. Therefore, for any given category of initiating event, the ability to perform the assumed safety function is preserved. The consequences of an accident occurring during the time allowed when barriers are not capable of performing their related support function are no different from the consequences of the same accident while relying on the Actions of the supported Technical Specification systems.

Therefore, the proposed change does not involve a significant increase in the probability or consequences of an accident previously evaluated.

2. Does the proposed change create the possibility of a new or different kind of accident from any accident previously evaluated?

Response: No.

No new or different accidents result from using the proposed change. The changes do not involve a physical alteration of the plant (i.e., no new or different type of equipment will be installed) or a change in the methods governing normal plant operation. In addition, the changes do not impose any new or different requirements or eliminate any existing requirements. The changes do not alter assumptions made in the safety analysis. The proposed changes are consistent with the safety analysis assumptions and current plant operating practice.

Therefore, the proposed change does not create the possibility of a new or different kind of accident from any accident previously evaluated.

3. Does the proposed change involve a significant reduction in a margin of safety?

Response: No.

The proposed change allows for a limited period of time in which barriers may be unable to perform their related support function without declaring the supported systems inoperable. A risk analysis has shown that this provision will not have a significant effect on plant risk. In addition, regulatory requirements in 10 CFR 50.65(a)(4) require risk assessment and risk management, which will ensure that plant risk is not significantly increased.

Therefore, the proposed change does not involve a significant reduction in a margin of safety.

ITS Section 3.0, “LCO and SR Applicability,” Less Restrictive Change L02 (LAR, Enclosure 2, Volume 5, Revision 0, page 89 of 90):

1. Does the change involve a significant increase in the probability or consequences of an accident previously evaluated?

Response: No.

The proposed change allows the Completion Time for periodic actions to be extended by 25 percent. This change does not significantly affect the probability of an accident. The length of time between performance of Required Actions is not an initiator to any accident previously evaluated. The consequences of any accident previously evaluated are the same during the Completion Time or during any extension of the Completion Time. As a result, the consequences of any accident previously evaluated are not significantly increased.

Therefore, the proposed change does not involve a significant increase in the probability or consequences of an accident previously evaluated.

2. Does the change create the possibility of a new or different kind of accident from any accident previously evaluated?

Response: No.

The proposed change allows the Completion Time for periodic actions to be extended by 25 percent. This change will not involve physically altering the plant (i.e., no new or different type of equipment will be installed). In addition, the change does not involve any new or revised operator actions.

Therefore, the proposed change does not create the possibility of a new or different kind of accident from any accident previously evaluated.

3. Does this change involve a significant reduction in a margin of safety?

Response: No.

The proposed change allows the Completion Time for periodic actions to be extended by 25 percent. The 25 percent extension allowance is provided for scheduling convenience and is not expected to have significant effect on the average time between Required Actions. As a result, the Required Action will continue to provide appropriate compensatory measures for the subject Condition.

Therefore, the proposed change does not involve a significant reduction in a margin of safety.

ITS Section 3.3.1, “Reactor Trip System (RTS) Instrumentation,” Less Restrictive Change L11 and L12 (LAR, Enclosure 2, Volume 8, Revision 0, page 323 of 1148):

1. Does the change involve a significant increase in the probability or consequences of an accident previously evaluated?

Response: No.

The proposed change relaxes the Required Actions for the Engineered Safety Feature Actuation System (ESFAS) Instrumentation, Auxiliary Feedwater Main Steam Generator Water Level-Low-Low, when an RCS Loop ΔT [change in temperature] or a Containment Pressure (EAM [Environmental Allowance Modifier]) channel is inoperable. Placing the affected Auxiliary Feedwater Main Steam Generator Water Level-Low-Low channels in trip uses installed equipment designed specifically for placing the channels in trip. This change will not affect the probability of an accident, because the OPERABLE Auxiliary Feedwater Main Steam Generator Water Level-Low-Low channels will continue to perform the safety function the instrumentation is required to perform. The Auxiliary Feedwater Main Steam Generator Water Level-Low-Low channels are not initiators of any accident sequence analyzed in the Updated Final Safety Analysis Report (UFSAR). Rather, Auxiliary Feedwater Main Steam Generator Water Level-Low-Low channels are used to mitigate accidents. The consequences of an analyzed accident will not be significantly increased since the minimum requirements for Auxiliary Feedwater Main Steam Generator Water Level-Low-Low channels will be maintained to ensure the availability of the required instrumentation to mitigate accidents assumed in the UFSAR. Operation in accordance with the proposed TS [technical specifications] will ensure that sufficient Auxiliary Feedwater Main Steam Generator Water Level-Low-Low channels are OPERABLE as required to support the unit's required features. Therefore, the mitigating functions supported by the Auxiliary Feedwater Main Steam Generator Water Level-Low-Low instrumentation will continue to provide the protection assumed by the accident analysis. The integrity of fission product barriers, plant configuration, and operating procedures as described in the UFSAR will not be affected by the proposed changes. Thus, the consequences of previously analyzed accidents will not be significantly increased by implementing these changes.

Therefore, the proposed changes do not involve a significant increase in the probability or consequences of an accident previously evaluated.

2. Does the change create the possibility of a new or different kind of accident from any accident previously evaluated?

Response: No.

The proposed change relaxes the Required Actions for the ESFAS Auxiliary Feedwater Main Steam Generator Water Level-Low-Low channels. The remaining Auxiliary Feedwater Main Steam Generator Water Level-Low-Low channels are required to be OPERABLE to support the associated unit's required features. This change will not physically alter the plant (no new or different type of equipment will be installed). The proposed changes will maintain the minimum requirements for Auxiliary Feedwater Main Steam Generator Water Level-Low-Low channels to ensure the availability of the equipment required to mitigate accidents assumed in the UFSAR.

Therefore, operation of the facility in accordance with this proposed change will not create the possibility of a new or different kind of accident from any accident previously evaluated.

3. Does this change involve a significant reduction in a margin of safety?

Response: No.

The proposed change relaxes the Required Actions for the ESFAS Auxiliary Feedwater Main Steam Generator Water Level-Low-Low channels. The remaining Auxiliary Feedwater Main Steam Generator Water Level-Low-Low channels are required to be OPERABLE to support the associated unit's required features. The margin of safety is not affected by this change because the minimum requirements for Auxiliary Feedwater Main Steam Generator Water Level-Low-Low channels will be maintained to ensure the availability of the required Auxiliary Feedwater Main Steam Generator Water Level-Low-Low instrumentation to shutdown the reactor and maintain it in a safe shutdown condition after an abnormal operational transient or postulated design basis accident.

Therefore, the proposed changes do not involve a significant reduction in a margin of safety.

ITS Section 3.3.1, “Reactor Trip System (RTS) Instrumentation,” More Restrictive Change M24 (LAR, Enclosure 2, Volume 8, Revision 0, page 327 of 1148):

1. Does the change involve a significant increase in the probability or consequences of an accident previously evaluated?

Response: No.

The proposed change affects the setpoint limits and the nominal setpoint for the RCP [reactor coolant pump] underfrequency reactor trip. Once the setpoint is exceeded, the RCP underfrequency reactor trip performs its design function in the same manner as before the proposed change. Maintenance and operation of the instrumentation is unchanged, except for a change in CTS setpoint, thus there is no increase in the likelihood of a malfunction of the instrument. The revision of the RCP underfrequency has been evaluated and the results are documented in approved calculations. These calculations verify that the revised values are acceptable in accordance with appropriate calculation methodologies and that they will continue to support the accident analysis. Although, this proposed change revised the settings listed in CTS, these revisions will not require changes to the instrumentation settings currently being used or the methods for maintaining them.

Therefore, the proposed revision of these values will not significantly increase the probability or consequences of an accident.

2. Does the change create the possibility of a new or different kind of accident from any accident previously evaluated?

Response: No.

The revised setpoints and the proposed operability limits will continue to provide acceptable initiation of safety functions for the mitigation of postulated accidents as required by the design basis. The primary function of the reactor protection system is to initiate accident mitigation functions. These functions are not considered initiators of postulated accidents. The proposed changes do not create the possibility of a new or different kind of accident because the design functions are not altered and the proposed values meet the accident analysis requirements for accident mitigation.

Therefore, the proposed change does not create the possibility of a new or different kind of accident from any previously evaluated.

3. Does this change involve a significant reduction in a margin of safety?

Response: No.

The NTSP [nominal trip setpoint] and AV [allowable value] revisions proposed in this request were evaluated and found to be acceptable without impact to the safety limits required for the associated functions. Plant systems will continue to be actuated for those plant conditions that require the initiation of accident mitigation functions. The margin of safety is not reduced because the proposed conservative changes to the AV and NTSP will not change design functions and the initiation of accident mitigation functions for appropriate plant conditions is ensured. Operational margin is reduced by increasing the NTSP and AV, maintaining the margin of safety.

Therefore, the proposed change does not involve a significant reduction in the margin of safety.

ITS Section 3.3.2, “Engineered Safety Feature Actuation System (ESFAS) Instrumentation,” Less Restrictive Change L12 and L13 (LAR, Enclosure 2, Volume 8, Revision 0, page 677 of 1148):

1. Does the change involve a significant increase in the probability or consequences of an accident previously evaluated?

Response: No.

The proposed change relaxes the Required Actions for the Engineered Safety Feature Actuation System (ESFAS) Instrumentation, Auxiliary Feedwater Main Steam Generator Water Level-Low-Low, when an RCS Loop ΔT or a Containment Pressure (EAM) channel is inoperable. Placing the affected Auxiliary Feedwater Main Steam Generator Water Level-Low-Low channels in trip uses installed equipment designed specifically for placing the channels in trip. This change will not affect the probability of an accident, because the OPERABLE Auxiliary Feedwater Main Steam Generator Water Level-Low-Low channels will continue to perform the safety function the instrumentation is required to perform. The Auxiliary Feedwater Main Steam Generator Water Level-Low-Low channels are not initiators of any accident sequence analyzed in the Updated Final Safety Analysis Report (UFSAR). Rather, Auxiliary Feedwater Main Steam Generator Water Level-Low-Low channels are used to mitigate accidents. The consequences of an analyzed accident will not be significantly increased since the minimum requirements for Auxiliary Feedwater Main Steam Generator Water Level-Low-Low channels will be maintained to ensure the availability of the required instrumentation to mitigate accidents assumed in the UFSAR. Operation in accordance with the proposed TS will ensure that sufficient Auxiliary Feedwater Main Steam Generator Water Level-Low-Low channels are OPERABLE as required to support the unit's required features. Therefore, the mitigating functions supported by the Auxiliary Feedwater Main Steam Generator Water Level-Low-Low instrumentation will continue to provide the protection assumed by the accident analysis. The integrity of fission product barriers, plant configuration, and operating procedures as described in the UFSAR will not be affected by the proposed changes. Thus, the consequences of previously analyzed accidents will not be significantly increased by implementing these changes.

Therefore, the proposed changes do not involve a significant increase in the probability or consequences of an accident previously evaluated.

2. Does the change create the possibility of a new or different kind of accident from any accident previously evaluated?

Response: No.

The proposed change relaxes the Required Actions for the ESFAS Auxiliary Feedwater Main Steam Generator Water Level-Low-Low channels. The remaining Auxiliary Feedwater Main Steam Generator Water Level-Low-Low channels are required to be OPERABLE to support the associated unit's required features. This change will not physically alter the plant (no new or different type of equipment will be installed). The proposed changes will maintain the minimum requirements for Auxiliary Feedwater Main Steam Generator Water Level-Low-Low channels to ensure the availability of the equipment required to mitigate accidents assumed in the UFSAR.

Therefore, operation of the facility in accordance with this proposed change will not create the possibility of a new or different kind of accident from any accident previously evaluated.

3. Does this change involve a significant reduction in a margin of safety?

Response: No.

The proposed change relaxes the Required Actions for the ESFAS Auxiliary Feedwater Main Steam Generator Water Level-Low-Low channels. The remaining Auxiliary Feedwater Main Steam Generator Water Level-Low-Low channels are required to be OPERABLE to support the associated unit's required features. The margin of safety is not affected by this change because the minimum requirements for Auxiliary Feedwater Main Steam Generator Water Level-Low-Low channels will be maintained to ensure the availability of the required Auxiliary Feedwater Main Steam Generator Water Level-Low-Low instrumentation to shutdown the reactor and maintain it in a safe shutdown condition after an abnormal operational transient or postulated design basis accident.

Therefore, the proposed changes do not involve a significant reduction in a margin of safety.

ITS Section 3.8.1, “AC [Alternating Current] Sources—Operating,” Less Restrictive Change L01 (LAR, Enclosure 2, Volume 13, Revision 0, page 200 of 638):

1. Does the change involve a significant increase in the probability or consequences of an accident previously evaluated?

Response: No.

The proposed change relaxes the Required Actions for the opposite unit's offsite AC power sources and DGs [diesel generators]. The opposite unit's offsite AC power sources and DGs are required to be OPERABLE to support the associated unit's required features. This change will not affect the probability of an accident, since the offsite AC circuits and DGs are not initiators of any accident sequence analyzed in the Updated Final Safety Analysis Report (UFSAR). Rather, offsite AC power sources and DGs support equipment used to mitigate accidents. The consequences of an analyzed accident will not be significantly increased since the minimum requirements for AC power sources will be maintained to ensure the availability of the required power to mitigate accidents assumed in the UFSAR. Operation in accordance with the proposed TS will ensure that sufficient onsite and offsite AC power sources are OPERABLE as required to support the unit's required features. Therefore, the mitigating functions supported by the onsite and offsite AC power sources will continue to provide the protection assumed by the accident analysis. The integrity of fission product barriers, plant configuration, and operating procedures as described in the UFSAR will not be affected by the proposed changes. Thus, the consequences of previously analyzed accidents will not increase by implementing these changes.

Therefore, the proposed changes do not involve a significant increase in the probability or consequences of an accident previously evaluated.

2. Does the change create the possibility of a new or different kind of accident from any accident previously evaluated?

Response: No.

The proposed change relaxes the Required Actions for the opposite unit's offsite AC power sources and DGs. The opposite unit's offsite AC power sources and DGs are required to be OPERABLE to support the associated unit's required features. This change will not physically alter the plant (no new or different type of equipment will be installed). The proposed changes will maintain the minimum requirements for AC power sources to ensure the availability of the equipment required to mitigate accidents assumed in the UFSAR.

Therefore, operation of the facility in accordance with this proposed change will not create the possibility of a new or different kind of accident from any accident previously evaluated.

3. Does this change involve a significant reduction in a margin of safety?

Response: No.

The proposed change relaxes the Required Actions for the opposite unit's offsite AC power sources and DGs. The opposite unit's offsite AC power sources and DGs are required to be OPERABLE to support the associated unit's required features. The margin of safety is not affected by this change because the minimum requirements for AC power sources will be maintained to ensure the availability of the required power to shutdown the reactor and maintain it in a safe shutdown condition after an AOO [anticipated operational occurrence] or a postulated DBA.

Therefore, the proposed changes do not involve a significant reduction in a margin of safety.

ITS Section 3.8.9, “Distribution Systems—Operating,” Less Restrictive Change L01 (LAR, Enclosure 2, Volume 13, Revision 0, page 359 of 638):

1. Does the change involve a significant increase in the probability or consequences of an accident previously evaluated?

Response: No.

The proposed change relaxes the Required Actions for the opposite unit's distribution system. This change will not affect the probability of an accident, since the distribution system[s] are not initiators of any accident sequence analyzed in the Updated Final Safety Analysis Report (UFSAR). Rather, the opposite unit's distribution system support equipment used to mitigate accidents. The consequences of an analyzed accident will not be significantly increased since the minimum requirements for distribution systems will be maintained to ensure the availability of the required power to mitigate accidents assumed in the UFSAR. Operation in accordance with the proposed TS will ensure that sufficient onsite electrical distribution systems are OPERABLE as required to support the unit's required features. Therefore, the mitigating functions supported by the onsite electrical distribution systems will continue to provide the protection assumed by the accident analysis. The integrity of fission product barriers, plant configuration, and operating procedures as described in the UFSAR will not be affected by the proposed changes. Thus, the consequences of previously analyzed accidents will not increase by implementing these changes.

Therefore, the proposed changes do not involve a significant increase in the probability or consequences of an accident previously evaluated.

2. Does the change create the possibility of a new or different kind of accident from any accident previously evaluated?

Response: No.

The proposed change relaxes the Required Actions for the opposite unit's onsite electrical distribution systems. This change will not physically alter the plant (no new or different type of equipment will be installed). The proposed changes will maintain the minimum requirements for onsite electrical distribution systems to ensure the availability of the equipment required to mitigate accidents assumed in the UFSAR.

Therefore, operation of the facility in accordance with this proposed change will not create the possibility of a new or different kind of accident from any accident previously evaluated.

3. Does this change involve a significant reduction in a margin of safety?

Response: No.

The proposed change relaxes the Required Actions for the opposite unit's onsite electrical distribution system. The margin of safety is not affected by this change because the minimum requirements for onsite electrical distribution systems will be maintained to ensure the availability of the required power to shutdown the reactor and maintain it in a safe shutdown condition after an AOO or a postulated DBA.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: General Counsel, Tennessee Valley Authority, 400 West Summit Hill Drive, ET 11A, Knoxville, Tennessee 37902.

NRC Acting Branch Chief: Lisa M. Regner.

II. Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items can be obtained as described in the “Obtaining Information and Submitting Comments” section of this document.

Exelon Generation Company, LLC, Docket No. 50-219, Oyster Creek Nuclear Generating Station, Ocean County, New Jersey

Date of application for amendment: December 12, 2013.

Brief description of amendment: The amendment revised the Oyster Creek Nuclear Generating Station technical specifications. The amendment modifies Technical Specification Task Force (TSTF) Traveler TSTF-522, Revision 0, “Revise Ventilation System Surveillance Requirements to Operate for 10 Hours per Month,” to 15 continuous minutes.

Date of Issuance: May 27, 2014.

Effective date: As of the date of issuance and shall be implemented within 60 days.

Amendment No.: 282. A publicly-available version is in ADAMS under Accession No. ML14008A350; documents related to this amendment are listed in the Safety Evaluation enclosed with the amendment.

Renewed Facility Operating License No. DPR-16: The amendment revised the license and technical specifications.

Date of initial notice in Federal Register: February 4, 2014 (79 FR 6643).

The Commission's related evaluation of this amendment is contained in a Safety Evaluation dated May 27, 2014.

No significant hazards consideration comments received: No.

Exelon Generation Company, LLC, and PSEG Nuclear LLC, Docket Nos. 50-277 and 50-278, Peach Bottom Atomic Power Station, Units 2 and 3, York and Lancaster Counties, Pennsylvania

Date of application for amendments: July 18, 2012, as supplemented by letters dated January 17, 2013, April 23, 2013, April 8, 2014, and April 28, 2014.

Brief description of amendments: The amendments revise the Technical Specifications (TSs) to change the operability requirements for the normal heat sink.

Date of issuance: June 5, 2014.

Effective date: As of the date of issuance, to be implemented within 30 days.

Amendments Nos.: 291 and 294. A publicly-available version is in ADAMS under Accession No. ML14136A485; documents related to these amendments are listed in the Safety Evaluation enclosed with the amendments.

Renewed Facility Operating License Nos. DPR-44 and DPR-56: The amendments revised the Facility Operating Licenses and the TSs.

Date of initial notice in Federal Register: September 4, 2012 (77 FR 53928). The letters dated January 17, 2013, April 23, 2013, April 8, 2014, and April 28, 2014, provided additional information that clarified the application, did not expand the scope of the application as originally noticed, and did not change the NRC staff's original proposed no significant hazards consideration determination as published in the Federal Register.

The Commission's related evaluation of the amendments is contained in a Safety Evaluation dated June 5, 2014.

No significant hazards consideration comments received: No.

Nine Mile Point Nuclear Station, LLC, Docket No. 50-410, Nine Mile Point Nuclear Station, Unit 2, Oswego County, New York

Date of application for amendment: November 21, 2012, as supplemented by letters dated March 25, July 31, September 6, November 4, December 13, 2013, and February 25, 2014.

Brief description of amendment: The amendment revised Nine Mile Point Nuclear Station, Unit 2 Technical Specification (TS) Section 3.4.11, “RCS [reactor coolant system] Pressure and Temperature (P/T) Limits,” by replacing the existing reactor vessel heatup and cooldown rate limits and the pressure and temperature (P-T) limit curves with references to the Pressure and Temperature Limits Report (PTLR). In addition, a new definition for the PTLR was added to TS Section 1.1, “Definitions,” and a new section addressing administrative requirements for the PTLR was added to TS Section 5.0, “Administrative Controls.” Relocation of the P-T limit curves to the PTLR is consistent with the guidance provided in NRC approved General Electric Hitachi Nuclear Engineering Licensing Topical Report, NEDC-33178P-A, Revision 1, “General Electric Methodology for Development of Reactor Pressure Vessel Pressure-Temperature Curves.” This topical report uses the guidelines provided in NRC Generic Letter (GL) 96-03, “Relocation of the Pressure Temperature Limit Curves and Low Temperature Overpressure Protection System Limits.” The proposed TS changes are consistent with the guidance provided in GL 96-03 as supplemented by Technical Specification Task Force (TSTF) traveler TSTF-419-A, “Revise PTLR Definition and References in ISTS [Improved Standard Technical Specifications] 5.6.6, RCS PTLR.”

Date of issuance: May 28, 2014.

Effective date: As of the date of issuance and to be implemented no later than July 18, 2014.

Amendment No.: 145. A publicly-available version is in ADAMS under Accession No. ML14057A554; documents related to this amendment are listed in the Safety Evaluation enclosed with the amendment.

Renewed Facility Operating License No. NPF-69: Amendment revised the License and Technical Specifications.

Date of initial notice in Federal Register: March 12, 2013 (78 FR 15749). The supplements dated March 25, July 31, September 6, November 4, December 13, 2013, and February 25, 2014, provided additional information that clarified the application, did not expand the scope of the application as originally noticed, and did not change the Nuclear Regulatory Commission (NRC) staff's initial proposed no significant hazards consideration determination noticed in the Federal Register.

The staff's related safety evaluation of the amendment is contained in a Safety Evaluation dated May 28, 2014.

No significant hazards consideration comments received: No.

South Carolina Electric & Gas Company, South Carolina Public Service Authority, Docket No. 50-395, Virgil C. Summer Nuclear Station, Unit 1, Fairfield County, South Carolina

Date of amendment request: October 3, 2013, as supplemented by letter dated December 20, 2013.

Date of issuance: May 29, 2014.

Effective date: This license amendment is effective as of the date of its issuance and shall be implemented within 60 days of issuance.

Amendment No.: 198. A publicly-available version is in ADAMS under Accession No. ML14122A309; documents related to this amendment are listed in the Safety Evaluation enclosed with the amendment.

Renewed Facility Operating License No. NPF-12: Amendment revised the Facility Operating License.

Date of initial notice in Federal Register: November 26, 2013 (78 FR 70595). The supplemental letter dated December 20, 2013, provided additional information that clarified the application, did not expand the scope of the application as originally noticed, and did not change the staff's original proposed no significant hazards consideration determination as published in the Federal Register.

The Commission's related evaluation of the amendment is contained in a Safety Evaluation dated May 29, 2014.

No significant hazards consideration comments received: No.

Dated at Rockville, Maryland, this 16th day of June 2014.
For the Nuclear Regulatory Commission.
Michele G. Evans,
Director, Division of Operating Reactor Licensing, Office of Nuclear Reactor Regulation.

[FR Doc. 2014-14606 Filed 6-23-14; 8:45 am]

BILLING CODE 7590-01-P